ENVIRONMENTAL PROTECTION AGENCY

[FRL-8043-2]

Proposed CERCLA Agreement for Recovery of Response Costs, Intermountain Waste Oil Refinery NPL Site, Bountiful, Davis County, UT

AGENCY: U.S. Environmental Protection Agency.

ACTION: Notice and request for public comment.

SUMMARY: In accordance with the requirements of section 122(h)(1) of the Comprehensive Environmental Response, Compensation, and Liability Act, as amended (“CERCLA”), 42 U.S.C. 9622(h)(1), notice is hereby given of a proposed administrative settlement under section 122(h) of CERCLA, 42 U.S.C. 9622(h), between EPA and Intermountain Oil Company (“Settling Party”) regarding the Intermountain Oil Company facility (the “Facility”) at the Intermountain Waste Oil Refinery NPL Site (“Site”). The property which is the subject of this proposed settlement is a parcel of land approximately two acres in size and is located at approximately 995 South and 500 West in Bountiful, Davis County, Utah. The settlement, embodied in the proposed Agreement for Recovery of Response Costs (“Agreement”), is intended to resolve the Settling Party's liability at the Site for all response costs incurred and paid, or to be incurred and paid, by EPA in connection with the work performed at the Site as provided for in the Agreement and is based on the Settling Party's inability to pay for a significant portion of the response costs incurred by EPA at the Site.

Intermountain Oil Company is the owner of a parcel of land which has been impacted by business operations at the Intermountain Oil Company Facility and is included within the defined boundaries of the Site. The proposed Agreement will resolve Settling Party's liability under section 107(a)(1) of CERCLA, 42 U.S.C. 9607(a)(1). Under the terms of the proposed Agreement, the Settling Party agrees to pay to EPA the Net Sales Proceeds from the sale of Settling Party's property, i.e., Settling Party's only asset. In exchange, the Settling Party will settle its liability for all response costs incurred and paid, or to be incurred and paid, at the Site in connection with the work performed at the Site as provided for in the Agreement.

Opportunity for Comment: For thirty (30) days following the date of publication of this notice, the Agency will consider all comments received on the Agreement and may modify or withdraw its consent to the Agreement if comments received disclose facts or considerations which indicate that the Agreement is inappropriate, improper, or inadequate. The Agency's response to any comments received will be available for public inspection at the EPA Superfund Record Center, 999 18th Street, 5th Floor, in Denver, Colorado.

DATES: Comments must be submitted on or before April 10, 2006.

ADDRESSES: The proposed Agreement and additional background information relating to the Agreement are available for public inspection at the EPA Superfund Records Center, 999 18th Street, 5th Floor, in Denver, Colorado. Comments and requests for a copy of the proposed Agreement should be addressed to Carol Pokorny, Enforcement Specialist (8ENF-RC), Technical Enforcement Program, U.S. Environmental Protection Agency, 999 18th Street, Suite 300, Denver, Colorado 80202-2466, and should reference the Intermountain Waste Oil Refinery NPL Site (IWOR), Bountiful, Davis County, Utah, and the IWOR Agreement.

FOR FURTHER INFORMATION CONTACT: Carol Pokorny, Enforcement Specialist (8ENF-RC), Technical Enforcement Program, U.S. Environmental Protection Agency, 999 18th Street, Suite 300, Denver, Colorado 80202-2466, (303) 312-6970.

It is so agreed:

Dated: March 1, 2006.
Eddie A. Sierra,
Acting Assistant Regional Administrator, Office of Enforcement, Compliance and Environmental Justice, U.S. Environmental Protection Agency, Region 8.

[FR Doc. E6-3349 Filed 3-8-06; 8:45 am]

BILLING CODE 6560-50-P